DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Generic Clearance for Questionnaire Pretesting Research.

Form Number(s): Various.

Agency Approval Number: 0607-0725.

Type of Request: Extension of a currently approved collection.

Burden: 5,500 hours.

Number of Respondents: 5,500.

Avg Hours Per Response: 1 hour.

Needs and Uses: The Census Bureau maintains a generic clearance which relaxes some of the time constraints and enables the Census Bureau to conduct extended cognitive and questionnaire design research as part of testing for its censuses and surveys. This research program is used by the Census Bureau and survey sponsors to improve questionnaires and procedures, reduce respondent burden, and ultimately increase the quality of data collected in the Census Bureau censuses and surveys. Pretesting activities are generally small-scale and involve one of the following methods for identifying measurement problems with the questionnaire or survey procedure: field tests, respondent debriefings, split sample experiments, cognitive interviews, and focus groups.

A block of burden hours is reserved at the beginning of each fiscal year. The particular activities that will be conducted under the clearance are not specified in advance. The Census Bureau provides information to OMB about the specific pretesting activities on a flow basis throughout the year. OMB is notified of each pretesting activity in a letter that gives specific details about the activity, rather than by means of individual clearance packages. At the end of each year, a report is submitted to OMB that summarizes the number of hours used as well as the nature and results of the activities completed under the clearance.

This request is for an extension of the current OMB approval of the generic clearance. There is no change in the estimated number of activities to be conducted per fiscal year or in the types of testing to be undertaken.

Affected Public: Individuals or households, Businesses or other for profit, Farms.

Frequency: On occasion.

Respondent's Obligation: Voluntary.

Legal Authority: Data collection for this project is authorized under the authorizing legislation for the questionnaire being tested. This may be Title 13, Sections 131, 141, 161, 181, 182, 193, and 301, for Census-Bureau sponsored surveys, and Title 13 and 15 for surveys sponsored by other Federal agencies.

OMB Desk Officer: Susan Schechter, (202) 395-5103.

Copies of the above information collection proposal can be obtained by calling or writing Madeleine Clayton, Departmental Paperwork Clearance Officer, (202)482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: June 14, 2001.
Madeleine Clayton,
Departmental Paperwork Clearance Officer, Office of the Chief Information Officer.

[FR Doc. 01-15430 Filed 6-18-01; 8:45 am]

BILLING CODE 3510-07-P